NATIONAL AERONAUTICS AND SPACE ADMINISTRATION

[Notice 02-105]

NASA Advisory Council, Planetary Protection Advisory Committee; Meeting

AGENCY: National Aeronautics and Space Administration.

ACTION: Notice of meeting.

SUMMARY: In accordance with the Federal Advisory Committee Act, Public Law 92-463, as amended, the National Aeronautics and Space Administration announces a forthcoming meeting of the NASA Advisory Council (NAC), Planetary Protection Advisory Committee (PPAC).

DATES: Tuesday, October 1, 2002, 8:30 a.m. to 5 p.m., Wednesday, October 2, 2002, 8:30 a.m. to 12:30 p.m.

ADDRESSES: Holiday Inn Capitol, Columbia One Conference Room, 400 C Street, SW., Washington, DC 20024.

FOR FURTHER INFORMATION CONTACT: Ms. Marian Norris, Code SB, National Aeronautics and Space Administration, Washington, DC 20546, 202/358-4452.

SUPPLEMENTARY INFORMATION: The meeting will be open to the public up to the capacity of the room. The agenda for the meeting includes the following topics:

—Annual Ethics Training

—NASA Planetary Protection Program Status and Plans

—NASA's Mars Planetary Protection Update

—COSPAR Planetary Protection Status and Plans

—Solar System Exploration Program Update

It is imperative that the meeting be held on these dates to accommodate the scheduling priorities of the key participants. Visitors will be requested to sign a visitor's register.

June W. Edwards,
Advisory Committee Management Officer, National Aeronautics and Space Administration.

[FR Doc. 02-23294 Filed 9-12-02; 8:45 am]

BILLING CODE 7510-01-P